DEPARTMENT OF TRANSPORTATION

Federal Aviation Administration

14 CFR Part 39

[Docket No. 2001-CE-27-AD; Amendment 39-12431; AD 2001-18-05]

RIN 2120-AA64

Airworthiness Directives; Goodyear Tire and Rubber Company Flight Eagle Tires, 34X9.25-16 18PR 210MPH, Part Number 348F83-2

AGENCY: Federal Aviation Administration, DOT.

ACTION: Final rule; request for comments.

SUMMARY: This amendment adopts a new airworthiness directive (AD) that applies to certain Goodyear Tire and Rubber Company (Goodyear) Flight Eagle tires, 34X9.25-16 18PR 210MPH, Part Number (P/N) 348F83-2, that are installed on aircraft. This AD requires you to inspect these tires to determine if they are within a certain serial number range and replace any tires within this serial number range. This AD is the result of several instances of main landing gear (MLG) tire tread separations on Gulfstream aircraft. The actions specified by this AD are intended to remove these tires from service to prevent the potential of these tires experiencing tread separations during operation. These tread separations could result in structural damage to the aircraft, including damage to the flaps, engine nacelles, and wheel wells.

DATES: This AD becomes effective on September 24, 2001.

The FAA must receive any comments on this rule on or before October 12, 2001.

ADDRESSES: Submit comments in triplicate to FAA, Central Region, Office of the Regional Counsel, Attention: Rules Docket No. 2001-CE-27-AD, 901 Locust, Room 506, Kansas City, Missouri 64106.

You may get the service information referenced in this AD from Goodyear Global Aviation Tires, Global Product Support, 1144 East Market Street, Akron, Ohio 44316-0001; telephone: (330) 796-3293; facsimile: (330) 796-6535; or Gulfstream Aerospace Corporation, 500 Gulfstream Road, P.O. Box 2206, Savannah, Georgia 31402-2206, as applicable. You may examine this information at FAA, Central Region, Office of the Regional Counsel, Attention: Rules Docket No. 2001-CE-27-AD, 901 Locust, Room 506, Kansas City, Missouri 64106.

FOR FURTHER INFORMATION CONTACT: Roy Boffo, Aerospace Engineer, FAA, Chicago Aircraft Certification Office, 2300 E. Devon Avenue, Des Plaines, Illinois 60018; telephone: (847) 294-7564; facsimile: (847) 294-7834.

SUPPLEMENTARY INFORMATION:

Discussion

What Events Have Caused This AD?

The FAA has received reports of four incidents of main landing gear (MLG) tire tread separations on Gulfstream aircraft. Two of these incidents occurred during takeoff, and the other two are being investigated.

Goodyear has identified a batch of Flight Eagle tires, 34X9.25-16 18PR 210MPH, Part Number (P/N) 348F83-2, that are susceptible to the tire tread separations. The serial numbers of this batch are 0168xxxx through 0185xxxx. This consists of approximately 300 tires.

These tires are installed on, but not limited to, the following aircraft:

Type certificate holder | Models | Serial numbers
Gulfstream Aerospace Corporation | GII, GIIB, and GIII | All serial numbers.
Gulfstream Aerospace Corporation | GIV | Serial numbers 1000 through 1213, except for serial number 1183.
The Boeing Company | 720 and 720B | All serial numbers.

What Are the Consequences if the Condition Is Not Corrected?

Tire tread separations, if not prevented, could result in structural damage to the aircraft. This includes damage to the flaps, engine nacelles, and wheel wells.

Is There Service Information That Applies to This Subject?

Goodyear has issued Service Bulletin GY SB 2001-32-006, dated July 28, 2001. In addition, Gulfstream Aerospace Corporation has issued Alert Customer Bulletins #28 (GII/GIIB), #14 (GIII), and #28 (GIV), all dated July 31, 2001.

These bulletins provide information that relates to removing the affected tires from service.

The FAA's Determination and an Explanation of the Provisions of This AD

What Has FAA Decided?

After examining the circumstances and reviewing all available information related to the subject above, we have determined that:

—The unsafe condition referenced in this document exists or could develop on type design aircraft equipped with certain Goodyear Flight Eagle tires, 34X9.25-16 18PR 210MPH, P/N 348F83-2, serial numbers 0168xxxx through 0185xxxx;

—These tires should be removed from service; and

—AD action should be taken in order to correct this unsafe condition

What Would This AD Require?

This AD requires you to inspect all of these tires to determine if they are within the affected serial number range and replace any tires within this serial number range.

Will I Have the Opportunity to Comment Prior to the Issuance of the Rule?

Because the unsafe condition described in this document could result in structural damage to the aircraft, including damage to the flaps, engine nacelles, and wheel wells, FAA finds that notice and opportunity for public prior comment are impracticable. Therefore, good cause exists for making this amendment effective in less than 30 days.

Comments Invited

How Do I Comment on This AD?

Although this action is in the form of a final rule and was not preceded by notice and opportunity for public comment, we invite your comments on the rule. You may submit whatever written data, views, or arguments you choose. You need to include the rule's docket number and submit your comments in triplicate to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention to?

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

We are reviewing the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2001-CE-27-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-18-05 Goodyear Tire and Rubber Company: Amendment 39-12431; Docket No. 2001-CE-27-AD.

(a) What aircraft are affected by this AD? This AD applies to aircraft equipped with any Goodyear Flight Eagle tire, 34X9.25-16 18PR 210MPH, Part Number (P/N) 348F83-2. The following is a list of aircraft where these tires could be installed. This is not a comprehensive list and aircraft not on this list that have the tires installed through field approval or other methods are still affected by this AD:

Type certificate holder | Models | Serial numbers
Gulfstream Aerospace Corporation | GII, GIIB, and GIII | All serial numbers.
Gulfstream Aerospace Corporation | GIV | Serial numbers 1000 through 1213, except for serial number 1183.
The Boeing Company | 720 and 720B | All serial numbers.

(b) Who must comply with this AD? Anyone who wishes to operate any aircraft that is equipped with one or more of the above-referenced Goodyear Flight Eagle tires must comply with this AD.

(c) What problem does this AD address? The actions specified by this AD are intended to remove these tires from service to prevent the potential of these tires experiencing tread separations during operation. These tread separations could result in structural damage to the aircraft, including damage to the flaps, engine nacelles, and wheel wells.

(d) What must I do to address this problem? To address this problem, you must accomplish the following actions:

Action | Compliance time | Procedures
(1) Inspect all Goodyear Flight Eagle tires, 34X9.25-16 18PR 210MPH, P/N 348F83-2, to determine if any are within the serial number range of 0168xxxx through 0185xxxx | Within the next 10 hours time-in-service (TIS) after September 24, 2001 (the effective date of this AD) | Goodyear Service Bulletin GY SB 2001-32-006, dated July 28, 2001, and Gulfstream Aerospace Corporation Alert Customer Bulletins #28 (GII/GIIB), #14 (GIII), and #28 (GIV), all dated July 31, 2001, contain information that relates to this subject.
(2) Replace any tire found within the serial number range referenced in paragraph (d)(1) of this AD with an FAA-approved tire that is not Goodyear Flight Eagle, 34X9.25-16 18 PR 210 MPH, P/N 348F83-2, serial number 0168xxxx through 0185xxxx | Prior to further flight after the inspection required by paragraph (d)(1) of this AD | Goodyear Service Bulletin GY SB 2001-32-006, dated July 28, 2001, and Gulfstream Aerospace Corporation Alert Customer Bulletins #28 (GII/GIIB), #14 (GIII), and #28 (GIV), all dated July 31, 2001, contain information that relates to this subject.
(3) Do not install, on any airplane, a Goodyear Flight Eagle tire, 34X9.25-16 18 PR 210MPH, P/N 348F83-2, that is within the serial number range of 0168xxxx through 0185xxxx | As of September 24, 2001 (the effective date of this AD) | Not Applicable.

(e) Can I comply with this AD in any other way? You may use an alternative method of compliance or adjust the compliance time if:

(1) Your alternative method of compliance provides an equivalent level of safety; and

(2) The Manager, Chicago Aircraft Certification Office, approves your alternative. Send your request through an FAA Principal Maintenance Inspector, who may add comments and then send it to the Manager, Chicago Aircraft Certification Office.

Note: This AD applies to any aircraft with a tire installed as identified in paragraph (a) of this AD, regardless of whether the aircraft has been modified, altered, or repaired in the area subject to the requirements of this AD. For aircraft that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roy Boffo, Aerospace Engineer, FAA, Chicago Aircraft Certification Office, 2300 E. Devon Avenue, Des Plaines, Illinois 60018; telephone: (847) 294-7564; facsimile: (847) 294-7834.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Goodyear Global Aviation Tires, Global Product Support, 1144 East Market Street, Akron, Ohio 44316-0001; telephone: (330) 796-3293; facsimile: (330) 796-6535; or Gulfstream Aerospace Corporation, 500 Gulfstream Road, P.O. Box 2206, Savannah, Georgia 31402-2206, as applicable. You may examine these documents at FAA, Central Region, Office of the Regional Counsel, 901 Locust, Room 506, Kansas City, Missouri 64106.

(i) When does this amendment become effective? This amendment becomes effective on September 24, 2001.

Issued in Kansas City, Missouri, on August 27, 2001.
Michael Gallagher,
Manager, Small Airplane Directorate, Aircraft Certification Service.

[FR Doc. 01-22083 Filed 8-31-01; 8:45 am]

BILLING CODE 4910-13-U